ENVIRONMENTAL PROTECTION AGENCY

40 CFR Part 52

[DE043-1030b; FRL-6941-4]

Approval and Promulgation of Air Quality Implementation Plans; Approval and Promulgation of Air Quality Implementation Plans; Delaware; Revisions to New Source Review

AGENCY: Environmental Protection Agency (EPA).

ACTION: Proposed rule.

SUMMARY: EPA proposes to convert its conditional approval of Delaware's revised New Source Review (NSR) regulations to a full approval and to incorporate those regulations into the Delaware State Implementation Plan (SIP). In the Final Rules section of this Federal Register. EPA is taking direct final action to convert the conditional approval to full approval as a direct final rule without prior proposal because the Agency views this as a noncontroversial submittal and anticipates no adverse comments. If no adverse comments are received in response to this action, no further activity is contemplated. If EPA receives adverse comments, the direct final rule will be withdrawn and all public comments received will be addressed in a subsequent final rule based on this proposed rule. EPA will not institute a second comment period. Any parties interested in commenting on this action should do so at this time.

EFFECTIVE DATE: Comments must be received in writing by March 9, 2001.

ADDRESSES: Written comments should be addressed to Makeba Morris, Chief, Permits and Technology Assessment Branch, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Delaware Department of Natural Resources & Environmental Control, 89 Kings Highway, P.O. Box 1401, Dover, Delaware 19903.

FOR FURTHER INFORMATION CONTACT: Linda Miller, (215) 814-2068, at the EPA Region III address above, or by e-mail at miller.linda@epa.gov.

SUPPLEMENTARY INFORMATION: For further information on EPA's proposed action to convert its conditional approval of revisions to Delaware's New Source Review Program to a full approval, please see the information provided in the direct final action, with the same title, that is located in the “Rules and Regulations” section of this Federal Register publication.

Dated: January 17, 2001.
Bradley M. Campbell,
Regional Administrator, Region III.

[FR Doc. 01-3159 Filed 2-6-01; 8:45 am]

BILLING CODE 6560-50-M